DEPARTMENT OF TRANSPORTATION

Saint Lawrence Seaway Development Corporation

33 CFR Part 401

[Docket No. SLSDC 2000-7543]

RIN 2135-AA11

Seaway Regulations and Rules: Miscellaneous Amendments

AGENCY: Saint Lawrence Seaway Development Corporation, DOT.

ACTION: Final Rule; corrections.

SUMMARY: In the Saint Lawrence Seaway Development Corporation (SLSDC) Final Rule amending the Seaway Regulations and Rules (33 CFR part 401) published in the Federal Register on August 31, 2000 (65 FR 52912), inadvertent errors were made in the amended authority citation and in the amendment to paragraph § 401.90(c)(2). This document corrects those errors.

DATES: Effective on October 2, 2000.

FOR FURTHER INFORMATION CONTACT: Marc C. Owen, Chief Counsel, Saint Lawrence Seaway Development Corporation, 400 Seventh Street, SW., Washington, DC 20590, (202) 366-6823.

SUPPLEMENTARY INFORMATION: In the Saint Lawrence Seaway Development Corporation (SLSDC) Final Rule amending the Seaway Regulations and Rules (33 CFR part 401) published in the Federal Register on August 31, 2000 (65 FR 52912), inadvertent errors were made in the amended authority citation and in the amendment to § 401.90(c)(2). In the authority citation, “49 CFR 1.50a” should have been “49 CFR 1.52(a)”. In § 401.90(c)(2) the word “reasonable” should have been “reasonably”. This correction makes those changes.

In rule SLSDC 2000-7543 published in the Federal Register on August 31, 2000 (65 FR 52912), make the following corrections:

1. On page 52913, in the second column, in the amendment to the authority citation (amendment 1), remove “49 CFR 1.50a” and add in its place “49 CFR 1.52(a)”.

2. On page 52915, in the second column, in the amendment to § 401.90(c)(2) (included in amendment 25), remove “reasonable” and add in its place “reasonably”.

Issued at Washington, DC on September 14, 2000.
Saint Lawrence Seaway Development Corporation.
Marc C. Owen,
Chief Counsel.

[FR Doc. 00-24034 Filed 9-18-00; 8:45 am]

BILLING CODE 4910-61-P